ENVIRONMENTAL PROTECTION AGENCY

40 CFR Part 300

[FRL-6903-9]

National Oil and Hazardous Substances Pollution Contingency Plan; National Priorities List

AGENCY: Environmental Protection Agency.

ACTION: Notice of deletion of the Tenth Street Dump/Junkyard Superfund Site from the National Priorities List (NPL).

SUMMARY: The Environmental Protection Agency (EPA) Region 6 announces the deletion of the Tenth Street Dump/Junkyard Superfund Site (Site) located in Oklahoma City, Oklahoma from the National Priorities List (NPL). The NPL, promulgated pursuant to Section 105 of the Comprehensive Environmental Response, Compensation, and Liability Act (CERCLA) of 1980, as amended, is codified at Appendix B to the National Oil and Hazardous Substances Pollution Contingency Plan (NCP), 40 CFR Part 300. The EPA and the State of Oklahoma, through the Oklahoma Department of Environmental Quality (ODEQ), have determined that the Site poses no significant threat to public health or the environment and, therefore, no further response actions are appropriate. (Neither CERCLA-required five-year reviews nor operation and maintenance are considered further response action for the purpose of deletion.)

EFFECTIVE DATE: November 21, 2000.

FOR FURTHER INFORMATION CONTACT: Ms. Camille D. Hueni, Remedial Project Manager, 214-665-2231, United States Environmental Protection Agency, Region 6, 6SF-AP, 1445 Ross Avenue, Suite 1200, Dallas, Texas, 75202-2733. Information on the Site is available at the local information repository located at the Ralph Ellison Library, 2000 N.E. 23rd Street, Oklahoma City, Oklahoma 73111. Requests for comprehensive copies of documents should be formally directed to Mr. Donn Walters, Regional Superfund Information Management Team, EPA Region 6, SF-PO, 1445 Ross Avenue, Suite 1200, Dallas, Texas, 75202-2733.

SUPPLEMENTARY INFORMATION: The Site being deleted from the NPL is the Tenth Street Dump/Junkyard Superfund Site located in Oklahoma City, Oklahoma. A Notice of Intent to Delete for the Site was published on May 1, 2000 (65 FR 25292). The closing date for comments on the Notice of Intent to Delete was May 31, 2000. EPA received no comments and therefore no Responsiveness Summary was prepared.

The EPA identifies sites which appear to present a significant risk to public health, welfare, or the environment and maintains the NPL as the list of those sites. Deletion of a site from the NPL does not affect responsible party liability or impede EPA efforts to recover costs associated with response actions. Section 300.425(e)(3) of the NCP, 40 CFR 300.425(e)(3), states that Fund-financed actions may be taken at sites deleted from the NPL in the event that future conditions at the site warrant such action. Pursuant to CERCLA Section 105 and 40 CFR 300.425(e), the Site is hereby deleted from the NPL.

List of Subjects in 40 CFR Part 300

Environment protection, Air pollution control, Chemicals, Hazardous substances, Hazardous waste, Intergovernmental regulations, Penalties, Reporting and recordkeeping requirements, Superfund, Water pollution control, Water supply.

Dated: September 29, 2000.
Myron Knudson,
Acting Regional Administrator, U.S. EPA Region 6.

For the reasons set out in the preamble, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to part 300 is amended by removing the site “Tenth Street Dump/Junkyard, Oklahoma City, Oklahoma.”

[FR Doc. 00-29508 Filed 11-20-00; 8:45 am]

BILLING CODE 6560-50-P